DEPARTMENT OF COMMERCE

National Oceanic and Atmospheric Administration

RIN 0648-XG858

Caribbean Fishery Management Council; Public Hearings

AGENCY: National Marine Fisheries Service (NMFS), National Oceanic and Atmospheric Administration (NOAA), Commerce.

ACTION: Notice of public hearings.

SUMMARY: The Caribbean Fishery Management Council will hold public hearings to provide an overview of the island-based fishery management plan that pertains to the island at which we present. For Puerto Rico the audience will be presented with the “Comprehensive Fishery Management Plan for the Puerto Rico Exclusive Economic Zone”; for St. Thomas/St. John the audience will be presented with the “Comprehensive Fishery Management Plan for the St. Thomas/St. John Exclusive Economic Zone”; for St. Croix the audience will be presented with the “Comprehensive Fishery Management Plan for the St. Croix Exclusive Economic Zone.” The audience will be provided with an overview of each plan, they will then be given the time and opportunity to comment on their island's plan.

DATES: See SUPPLEMENTARY INFORMATION for the dates of the public hearings.

ADDRESSES: See SUPPLEMENTARY INFORMATION for the locations of the public hearings.

FOR FURTHER INFORMATION CONTACT: Caribbean Fishery Management Council, 270 Muñoz Rivera Avenue, Suite 401, San Juan, Puerto Rico 00918-1903, telephone (787) 766-5926.

SUPPLEMENTARY INFORMATION:

Puerto Rico

April 1, 2019, 7 p.m. to 9 p.m.—Doubletree Hotel, De Diego Avenue, Condado, San Juan, Puerto Rico;

April 2, 2019, 7 p.m. to 10 p.m.—Corporación de Pescadores Unidos, Playa Húcares, Sector El Morillo, Carr. #3 Km. 65.9, Naguabo, Puerto Rico;

April 3, 2019, 7 p.m. to 9 p.m.—Mayagüez Holiday Inn Hotel, Mayagüez Holiday Inn, 2701 Hostos Avenue, Mayagüez, Puerto Rico.

U.S. Virgin Islands

April 3, 2019, 7 p.m. to 10 p.m.—Emerald Beach Resort, 8070 Lindbergh Bay, St. Thomas, USVI;

April 4, 2019, 7 p.m. to 10 p.m.—The Buccaneer Hotel, 5007 Estate Shoys, Christiansted, St. Croix.

Written comments can be sent to Dr. Graciela García-Moliner by email at graciela_cfmc@yahoo.com or by regular mail to Caribbean Fishery Management Council, 270 Muñoz Rivera Avenue, Suite 401, San Juan, Puerto Rico 00918, no later than April 15, 2019.

Special Accommodations

These hearings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone (787) 766-5926, at least 5 days prior to the meeting date.

Dated: March 8, 2019.
Tracey L. Thompson,
Acting Deputy Director, Office of Sustainable Fisheries, National Marine Fisheries Service.

[FR Doc. 2019-04581 Filed 3-12-19; 8:45 am]

BILLING CODE 3510-22-P